DEPARTMENT OF COMMERCE

National Oceanic and Atmospheric Administration

[I.D. 051904B]

New England Fishery Management Council; Public Meetings

AGENCY: National Marine Fisheries Service (NMFS), National Oceanic and Atmospheric Administration (NOAA), Commerce.

ACTION: Notice of a public meeting.

SUMMARY: The New England Fishery Management Council (Council) is scheduling a public meeting of its Herring Oversight Committee with Atlantic States Marine Fishery Service Herring Section. Recommendations from these groups will be brought to the full Council for formal consideration and action, if appropriate.

DATES: The meeting will be held on Tuesday, June 15, 2004 at 9:30 a.m.

ADDRESSES: The meeting will be held at the Holiday Inn by the Bay, 88 Spring Street, Portland, ME 04101; telephone: (207) 775-2311.

Council address: New England Fishery Management Council, 50 Water Street, Newburyport, MA 01950.

FOR FURTHER INFORMATION CONTACT: Paul J. Howard, Executive Director, New England Fishery Management Council; telephone: (978) 465-0492.

SUPPLEMENTARY INFORMATION: The committee will review updated stock and fishery information for the 2003 fishing year. They will also review Herring Plan Development Team (PDT) and Atlantic States Marine Fisheries Commission (ASMFC) Technical Committee (TC) recommendations regarding herring specifications for the 2005 fishing year and develop Committee/Section recommendations regarding specifications for the 2005 fishing year and identify a range of options for Total Allowable Catches (TACs) to be further analyzed by the PDT/TC. The committee will receive an update on the development of Amendment 1 to the Herring Fishery Management Plan (FMP). The ASMFC Section will review and approve the ASMFC Herring FMP Review for 2003.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 25, 2004.
Alan D. Risenhoover,
Acting Director, Office of Sustainable Fisheries, National Marine Fisheries Service.

[FR Doc. E4-1225 Filed 5-27-04; 8:45 am]

BILLING CODE 3510-22-S